DEPARTMENT OF DEFENSE

Department of the Army

Increase of Cargo Liability Insurance Amount Per Shipment for the Movement of DPS Shipments

AGENCY: Department of the Army, DOD.

ACTION: Notice.

SUMMARY: The Military Surface Deployment and Distribution Command (SDDC), as the Traffic Manager for Department of Defense (DOD) Personal Property Program, is reminding the Transportation Service Provider (TSP) community of SDDC's increase in Cargo Liability Insurance. The Amount Per Shipment increases from $22,500 to $50,000 Amount Per Shipment for all shipment movement of Personal Property (Domestic, International and Mobile Homes/Boats) within the Families First Phase II program utilizing the Defense Personal Property System (DPS). This announcement is made pursuant to Families First, Phase II, Business Rules, E, TSP Qualifications, 2.1.9.

Effective immediately, all shipments moving within the DPS program will move at the minimum Cargo Liability Insurance of $50,000 Amount Per Shipment.

SDDC will require certificates of the higher insurance as the DPS system is capable of accepting such certificates electronically, but this is effective now and will not be delayed due to delay in filing electronically the proof of the higher insurance amount.

DATES: Effective immediately, all shipments moving within the DPS program will move at the minimum Cargo Liability Insurance of $50,000 Amount Per Shipment.

ADDRESSES: The Military Surface Deployment and Distribution Command (SDDC), 200 Stovall Street, Alexandria, VA 22332-5000.

FOR FURTHER INFORMATION CONTACT: Ms. Sylvia Walker, (703) 428-3279.

SUPPLEMENTARY INFORMATION: DPS Cargo Liability Insurance coverage shall be provided at the following limits:

Amount Per Shipment is $50,000 and Amount Per Aggregate is $150,000. Request for additional information may be sent by e-mail to: ppqual@sddc.army.

Regulatory Flexibility Act

This action is not considered rule making within the meaning of Regulatory Flexibility Act, 5 U.S.C. 601-612.

Paperwork Reduction Act

The Paperwork Reduction Act, 44 U.S.C. 3051 et seq., does not apply because no information collection or record keeping requirements are imposed on contractors, offerors or members of the public.

Brenda S. Bowen,
Army Federal Register Liaison Officer.

[FR Doc. 07-1574 Filed 3-29-07; 8:45 am]

BILLING CODE 3710-08-M